DEPARTMENT OF TRANSPORTATION

Federal Aviation Administration

Notice of Intent to Rule on Application to impose and use a Passenger Facility Charge (PFC) at Sacramento International Airport, Sacramento, CA

AGENCY: Federal Aviation Administration (FAA), DOT.

ACTION: Notice of Intent to Rule on Application.

SUMMARY: The FAA proposes to rule and invites public comments on the application to impose and use a PFC at Sacramento International Airport under the provisions of the Aviation Safety and Capacity Expansion Act of 1990 (Title IX of the Omnibus Budget Reconciliation Act of 1990) (Pub. L. 101-508) and part 158 of the Federal Aviation Regulations (14 CFR part 158).

DATES: Comments must be received on or before February 22, 2000.

ADDRESSES: Comments on this application may be mailed or delivered in triplicate to the FAA at the following address: Federal Aviation Administration, Airports Division, 15000 Aviation Blvd., Lawndale, CA 90261, or San Francisco Airports District Office, 831 Mitten Road, Room 210, Burlingame, CA 94010-1303. In addition, one copy of any comments submitted to the FAA must be mailed or delivered to Mr. G. Hardy Acree, Director of Airports, county of Sacramento, at the following address: 6900 Airport Boulevard, Sacramento, CA 95837-1109. Air carriers and foreign air carriers may submit copies of written comments previously provided to the county of Sacramento under § 158.23 of part 158.

FOR FURTHER INFORMATION CONTACT: Marlys Vandervelde, Airports Program Analyst, San Francisco Airports District Office, 831 Mitten Road, Room 210, Burlingame, CA 94010-1303, Telephone: (650) 876-2806. The application may be reviewed in person at this same location.

SUPPLEMENTARY INFORMATION: The FAA proposes to rule and invites public comment on the application to impose and use the revenue from a PFC at Sacramento International Airport under the provisions of the Aviation Safety and Capacity Expansion Act of 1990 (Title IX of the Omnibus Budget Reconciliation Act of 1990) (Pub. L. 101-508) and Part 158 of the Federal Aviation Regulations (14 CFR part 158).

On December 28, 1999, the FAA determined that the application to impose and use a PFC submitted by the county of Sacramento was substantially complete within the requirements of § 158.25 of part 158. The FAA will approve or disapprove the application, in whole or in part, no later than March 31, 2000.

The following is a brief overview of the impose and use application No. 00-06-C-00-SMF:

Level of proposed PFC: $3.00.

Proposed charge effective date: August 1, 2006.

Proposed charge expiration date: November 1, 2013.

Total estimated PFC revenue: $115,700,000.

Brief description of the proposed project: Terminal A Construction Including Ticketing, Baggage Claim, 12 Aircraft Gates and Associated Building Infrastructure.

Class or classes of air carriers which the public agency has requested not be required to collect PFCs: None.

Any person may inspect the application in person at the FAA office listed above under FOR FURTHER INFORMATION CONTACT and at the FAA Regional Airports Division located at: Federal Aviation Administration, Airports Division, 15000 Aviation Blvd., Lawndale, CA 90261. In addition, any person may, upon request, inspect the application, notice and other documents germane to the application in person at the country of Sacramento.

Issued in Hawthorne, California, on January 4, 2000.
Herman C. Bliss,
Manager, Airports Division, Western-Pacific Region.

[FR Doc. 00-1484 Filed 1-20-00; 8:45 am]

BILLING CODE 4910-13-M